CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled The Senior Corps Longitudinal Evaluation for review and approval in accordance with the Paperwork Reduction Act of 1995, Public Law 104-13, (44 U.S.C. Chapter 35). Copies of this ICR, with applicable supporting documentation, may be obtained by calling the Corporation for National and Community Service, Anthony Nerino, at (202) 606-3919 or email to anerino@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on October 1, 2014. This comment period ended December 1, 2014. No public comments were received from this Notice.

Description: CNCS is seeking approval the Senior Corps Longitudinal Evaluation which is used by CNCS Program Staff and Senior Corps Grantees to provide evidence-based findings of the effectiveness of National Service. First, the data will be useful to assess the benefits of National Service participation on the volunteers' and caregivers psychosocial outcomes. Second, the data will be useful to CNCS in identifying: (1) Best practices for recruitment and retention of volunteers and caregivers, (2) obstacles to high response rates, and (3) assessments of the psychometric characteristics of the surveys to inform future research with this population.

Type of Review: New.

Agency: Corporation for National and Community Service.

Title: The Senior Corps Longitudinal Study.

OMB Number: TBD.

Agency Number: None.

Affected Public: Newly enrolled Senior Companion and Foster Grandparent Volunteers, and newly enrolled caregivers of clients receiving Senior Companion Program Respite Services, Senior Companion Project Staff and Foster Grandparent Project Staff.

Total Respondents: 5,273.

Frequency: New Caregivers, 2 times—New Volunteers, 3 times—SCP Project Staff, 2 times and FGP Project Staff, 2 times.

Average Time Per Response: New Caregivers, 30 minutes and 20 minutes—New Volunteers, 20 Minutes, 15 Minutes and 20 Minutes—SCP and FGP Project Staff, 90 minutes and 120 minutes.

Estimated Total Burden Hours: 2,785.26 hours.

Respondent category | Number of respondents | Participation time per respondent (minutes) | Burden hours per respondent | Burden hours all respondents
Caregiver Study:
Baseline | 926 | 30 | 0.50 | 463
Follow-up | 740 | 20 | 0.33 | 244.2
Volunteer Study:
Baseline | 1,224 | 20 | 0.33 | 403.92
First follow-up | 979 | 15 | 0.25 | 244.75
Second follow-up | 783 | 20 | 0.33 | 258.39
SCP project staff:
Caregiver Study ¹: Baseline and follow-up | 142 | 90 | 1.50 | 213
Volunteer Study ²: Baseline and two follow-ups | 170 | 120 | 2.00 | 340
FGP project staff:
Volunteer Study ²: baseline and two follow-ups | 309 | 120 | 2.00 | 618
Total Burden | 5,273 | 435 | 7.24 | 2,785.26

Total Burden Cost (capital/startup): None.

Total Burden Cost (operating/maintenance): None.

Dated: March 19, 2015.
Mary Hyde,
Deputy Director of Research and Evaluation.

[FR Doc. 2015-06852 Filed 3-24-15; 8:45 am]

BILLING CODE 6050-28-P